DEPARTMENT OF COMMERCE

International Trade Administration

[A-485-809]

Common Alloy Aluminum Sheet From Romania: Final Determination of Sales at Less Than Fair Value

AGENCY: Enforcement and Compliance, International Trade Administration, Department of Commerce.

SUMMARY: The Department of Commerce (Commerce) determines that imports of common alloy aluminum sheet (aluminum sheet) from Romania are being, or are likely to be, sold in the United States at less than fair value (LTFV) for the period of investigation January 1, 2019, through December 31, 2019.

DATES: Applicable March 8, 2021.

FOR FURTHER INFORMATION CONTACT: Krisha Hill, AD/CVD Operations, Office IV, Enforcement and Compliance, International Trade Administration, U.S. Department of Commerce, 1401 Constitution Avenue NW, Washington, DC 20230; telephone: (202) 482-4037.

SUPPLEMENTARY INFORMATION:

Background

On October 15, 2020, Commerce published in the Federal Register its preliminary affirmative determination in the LTFV investigation of aluminum sheet from Romania.¹ Commerce invited interested parties to comment on the Preliminary Determination. A summary of the events that occurred since Commerce published the Preliminary Determination, may be found in the Issues and Decision Memorandum.² On November 6, 2020, Commerce postponed the final determination to March 1, 2021.³

¹ See Common Alloy Aluminum Sheet From Romania: Preliminary Affirmative Determination of Sales at Less Than Fair Value, 85 FR 65358 (October 15, 2020) (Preliminary Determination), and accompanying Preliminary Decision Memorandum.

² See Memorandum, “Issues and Decision Memorandum for the Final Affirmative Determination in the Less-Than-Fair-Value Investigation of Common Alloy Aluminum Sheet From Romania,” dated concurrently with, and hereby adopted by, this notice (Issues and Decision Memorandum).

³ See Common Alloy Aluminum Sheet From Indonesia and Romania: Postponement of Final Determinations of Less-Than-Fair-Value Investigations, 85 FR 71049 (November 6, 2020).

Scope of the Investigation

The products covered by this investigation are aluminum sheet from Romania. For a complete description of the scope of this investigation, see Appendix I.

Scope Comments

During the course of this investigation, Commerce received scope comments from interested parties. Commerce issued a Preliminary Scope Decision Memorandum to address these comments.⁴ We received comments from interested parties on the Preliminary Scope Decision Memorandum, which we address in the Final Scope Decision Memorandum.⁵ Commerce is not modifying the scope language as it appeared in the Preliminary Determination. See Appendix I for the final scope of the investigation.

⁴ See Memorandum, “Antidumping and Countervailing Duty Investigations of Common Alloy Aluminum Sheet from Bahrain, Brazil, Croatia, Egypt, Germany, Greece, India, Indonesia, Italy, Republic of Korea, Oman, Romania, Serbia, Slovenia, South Africa, Spain, Taiwan, and Turkey: Scope Comments Decision Memorandum for the Preliminary Determinations,” dated October 6, 2020 (Preliminary Scope Decision Memorandum).

⁵ See Memorandum, “Common Alloy Aluminum Sheet from Bahrain, Brazil, Croatia, Egypt, Germany, Greece, India, Indonesia, Italy, Korea, Oman, Romania, Serbia, Slovenia, South Africa, Spain, Taiwan, and Turkey: Scope Comments Final Decision Memorandum,” dated concurrently with, and hereby adopted by, this notice (Final Scope Decision Memorandum).

Analysis of Comments Received

All issues raised in the case and rebuttal briefs that were submitted by parties in this investigation are addressed in the Issues and Decision Memorandum. A list of the sections of the Issues and Decision Memorandum are in Appendix II of this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn. The signed and electronic versions of the Issues and Decision Memorandum are identical in content.

Verification

Because Alro, SA stated prior to the Preliminary Determination that it would not respond to Commerce's request for information, we did not conduct a verification of Alro, SA's information.

Use of Adverse Facts Available

In the Preliminary Determination, Commerce found that the mandatory respondent, Alro, SA, failed to comply with Commerce's request for information, which significantly impeded the investigation. Further, Commerce found that Alro, SA failed to cooperate to the best of its ability in this investigation. Therefore, in the Preliminary Determination, pursuant to sections 776(a) and (b) of the Act, Commerce assigned Alro, SA a rate based on adverse facts available (AFA). We have continued to find that the application of AFA, pursuant to sections 776(a) and (b) of the Act is warranted in determining Alro, SA's weighted-average dumping margin.

In the Preliminary Determination, as AFA, we assigned Alro, SA, as an estimated weighted-average dumping margin, a dumping margin equal to the highest non-aberrational individual dumping margin determined for Alro, SA based on an average-to-transaction comparison. For the final determination, we have based the AFA rate for Alro, SA on the highest non-aberrational individual dumping margin determined for Alro, SA based on an average-to-average comparison.⁶ Because this rate is not secondary information, but rather is based on information obtained in the course of the investigation, Commerce need not corroborate this rate pursuant to section 776(c) of the Act.

⁶ See Issues and Decision Memorandum for details.

All-Others Rate

Section 735(c)(5)(A) of the Act provides that the estimated weighted-average dumping margin for all other producers and exporters not individually investigated shall be equal to the weighted average of the estimated weighted-average dumping margins established for exporters and producers individually investigated excluding rates that are zero, de minimis, or determined entirely under section 776 of the Act. Pursuant to section 735(c)(5)(B) of the Act, if the estimated weighted-average dumping margins established for all exporters and producers individually examined are zero, de minimis or determined based entirely on facts otherwise available, Commerce may use any reasonable method to establish the estimated weighted-average dumping margin for all other producers or exporters.

Commerce has determined the estimated dumping margin for the sole respondent, Alro, SA, entirely under section 776 of the Act. Consequently, pursuant to section 735(c)(5)(B) of the Act, Commerce's normal practice under these circumstances has been to calculate the all-others rate as a simple average of the alleged dumping margins from the petition.⁷ However, there is only one dumping margin in the petition for this investigation. Therefore, we used that rate as the all-others rate.

⁷ See, e.g., Notice of Preliminary Determinations of Sales at Less Than Fair Value: Sodium Nitrite from the Federal Republic of Germany, 73 FR 21909, 21912 (April 23, 2008), unchanged in Notice of Final Determination of Sales at Less Than Fair Value: Sodium Nitrite from the Federal Republic of Germany, 73 FR 38986, 38987 (July 8, 2008), and accompanying Issues and Decision Memorandum at Comment 2; see also Notice of Final Determination of Sales at Less Than Fair Value: Raw Flexible Magnets from Taiwan, 73 FR 39673, 39674 (July 10, 2008); Steel Threaded Rod from Thailand: Preliminary Determination of Sales at Less Than Fair Value and Affirmative Preliminary Determination of Critical Circumstances, 78 FR 79670, 79671 (December 31, 2013), unchanged in Steel Threaded Rod from Thailand: Final Determination of Sales at Less Than Fair Value and Affirmative Final Determination of Critical Circumstances, 79 FR 14476, 14477 (March 14, 2014); and Polyethylene Terephthalate Resin from Pakistan: Final Determination of Sales at Less Than Fair Value, 83 FR 48281, 48282 (September 24, 2018).

Final Determination

Pursuant to section 735 of the Act, the final estimated dumping margins are as follows:

⁸ On April 8, 2020, Alro, SA and its affiliate Vimetco Management Romania, SRL, notified Commerce that “Vimetco Group” is not a legal entity but that the name reflects a collection of companies including Alro, SA. Additionally, Alro, SA noted that its name is “Alro, SA” rather than “Alro, S.A.” as stated in the Initiation Notice. See Alro, SA's Letter, “Common Alloy Aluminum Sheets from Romania, A-385-809; Clarification of Company Names,” dated April 8, 2020. Given that Vimetco Group is not a legal entity but refers to a group of companies in which Alro, SA is the only producer, seller, and exporter of aluminum sheet, we have assigned the dumping rate to Alro, SA.

Exporter/producer | Estimated dumping margin (percent)
Alro, SA ⁸ | 37.26
All Others | 12.51

Disclosure

In accordance with 19 CFR 351.224(b), within five days of the date of publication of this notice in the Federal Register, we intend to disclose to parties in this proceeding the calculations performed in this final determination.

Continuation of Suspension of Liquidation

In accordance with section 735(c)(1)(B) of the Act, Commerce will instruct U.S. Customs and Border Protection (CBP) to continue to suspend liquidation of all appropriate entries of aluminum sheet from Romania, as described in Appendix I of this notice, which were entered, or withdrawn from warehouse, for consumption on or after October 15, 2020, the date of publication in the Federal Register of the affirmative Preliminary Determination.

Pursuant to section 735(c)(1)(B)(ii) of the Act and 19 CFR 351.210(d), we will instruct CBP to require a cash deposit for such entries of merchandise equal to the following: (1) The cash deposit rate for Alro, SA will be equal to the respondent-specific estimated dumping margin listed for Alro, SA in the table; (2) if the exporter is not identified in the table above but Alro, SA is the producer, then the cash deposit rate will be equal to the respondent-specific estimated dumping margin established for Alro, SA; and (3) the cash deposit rate for all other producers and exporters will be equal to the all-others estimated dumping margin listed in the table above. These suspension of liquidation instructions will remain in effect until further notice.

International Trade Commission Notification

In accordance with section 735(d) of the Act, we will notify the International Trade Commission (ITC) of this final affirmative determination of sales at LTFV. Because Commerce's final determination is affirmative, in accordance with section 735(b)(2) of the Act, the ITC will make its final determination as to whether the domestic industry in the United States is materially injured, or threatened with material injury, by reason of imports or sales (or the likelihood of sales) for importation of aluminum sheet from Romania no later than 45 days after this final determination. If the ITC determines that such injury does not exist, this proceeding will be terminated, all cash deposits posted will be refunded, and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed above in the “Continuation of Suspension of Liquidation” section.

Notification Regarding Administrative Protective Orders

This notice will serve as a final reminder to the parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

Notification to Interested Parties

This determination and this notice are issued and published pursuant to sections 735(d) and 777(i)(1) of the Act, and 19 CFR 351.210(c).

Dated: March 1, 2021.
Christian Marsh,
Acting Assistant Secretary for Enforcement and Compliance.

Appendix I

Scope of the Investigation

The products covered by this investigation are common alloy aluminum sheet, which is a flat-rolled aluminum product having a thickness of 6.3 mm or less, but greater than 0.2 mm, in coils or cut-to-length, regardless of width. Common alloy sheet within the scope of this investigation includes both not clad aluminum sheet, as well as multi-alloy, clad aluminum sheet. With respect to not clad aluminum sheet, common alloy sheet is manufactured from a 1XXX-, 3XXX-, or 5XXX-series alloy as designated by the Aluminum Association. With respect to multi-alloy, clad aluminum sheet, common alloy sheet is produced from a 3XXX-series core, to which cladding layers are applied to either one or both sides of the core. The use of a proprietary alloy or non-proprietary alloy that is not specifically registered by the Aluminum Association as a discrete 1XXX-, 3XXX-, or 5XXX-series alloy, but that otherwise has a chemistry that is consistent with these designations, does not remove an otherwise in-scope product from the scope.

Common alloy sheet may be made to ASTM specification B209-14 but can also be made to other specifications. Regardless of specification, however, all common alloy sheet meeting the scope description is included in the scope. Subject merchandise includes common alloy sheet that has been further processed in a third country, including but not limited to annealing, tempering, painting, varnishing, trimming, cutting, punching, and/or slitting, or any other processing that would not otherwise remove the merchandise from the scope of this investigation if performed in the country of manufacture of the common alloy sheet.

Excluded from the scope of this investigation is aluminum can stock, which is suitable for use in the manufacture of aluminum beverage cans, lids of such cans, or tabs used to open such cans. Aluminum can stock is produced to gauges that range from 0.200 mm to 0.292 mm, and has an H-19, H-41, H-48, H-39, or H-391 temper. In addition, aluminum can stock has a lubricant applied to the flat surfaces of the can stock to facilitate its movement through machines used in the manufacture of beverage cans. Aluminum can stock is properly classified under Harmonized Tariff Schedule of the United States (HTSUS) subheadings 7606.12.3045 and 7606.12.3055.

Where the nominal and actual measurements vary, a product is within the scope if application of either the nominal or actual measurement would place it within the scope based on the definitions set for the above.

Common alloy sheet is currently classifiable under HTSUS subheadings 7606.11.3060, 7606.11.6000, 7606.12.3096, 7606.12.6000, 7606.91.3095, 7606.91.6095, 7606.92.3035, and 7606.92.6095. Further, merchandise that falls within the scope of this investigation may also be entered into the United States under HTSUS subheadings 7606.11.3030, 7606.12.3015, 7606.12.3025, 7606.12.3035, 7606.12.3091, 7606.91.3055, 7606.91.6055, 7606.92.3025, 7606.92.6055, 7607.11.9090. Although the HTSUS subheadings are provided for convenience and customs purposes, the written description of the scope of this investigation is dispositive.

Appendix II

List of Sections in the Issues and Decision Memorandum

I. Summary

II. Background

III. Discussion of the Issue

IV. Recommendation

[FR Doc. 2021-04742 Filed 3-5-21; 8:45 am]

BILLING CODE 3510-DS-P